ENVIRONMENTAL PROTECTION AGENCY

[ER-FRL-6621-4]

Environmental Impact Statements; Notice of Availability

Responsible Agency: Office of Federal Activities, General Information (202) 564-7167 or www.epa.gov/oeca/ofa

Weekly receipt of Environmental Impact Statements.

Filed August 20, 2001 Through August 24, 2001.

Pursuant to 40 CFR 1506.9.

EIS No. 010321, Draft EIS, FHW, MD, MD-97 Brookeville Project Improvements and Preservation, South of Gold Mine Road to North of Holliday Drive, Funding and US Army Corps of Engineers Section 10 and 404 Permits Issuance, Montgomery County, MD, Due: October 22, 2001, Contact: Francine Shaw-Whitson (410) 962-4342.

EIS No. 010323, Draft Supplement, NOA, AK, Steller Sea Lion Protection Measures in the Alaska Groundfish Fisheries, Fishery Management Plans for Groundfish of the Gulf of Alaska and the Groundfish Fishery of the Bering Sea and Aleutian Islands Area, AK, Due: October 15, 2001, Contact: James W. Balsiger (907) 586-7221.

EIS No. 010324, Draft EIS, FHW, TN, KY, Corridor 18/Interstate 69 Proposed Improvements from the U.S. 412/U.S. 51 Interchange to the U.S. 51 Fulton Bypass/Purchase Parkway Interchange, Dyer and Obion Counties, TN and Fulton County, KY, Due: October 15, 2001, Contact: Charles Boyd (615) 781-5770.

EIS No. 010325, Final EIS, FHW, NM, Paseo del Volcon Corridor, Acquisition of Right-of-Way and Construction of Roadway, from the Intersection of I-40 to Intersection of NM-44 near the Town of Bernalillo, Bernalillo and Sandoval Counties, NM, Due: October 01, 2001, Contact: Gregory D. Rawlings (505) 820-2027.

EIS No. 010326, Draft EIS, APH, PROGRAMMATIC-EIS Rangeland Grasshopper and Mormon Cricket Suppression Program, Authorization, Funding and Implementation in 17 Western States, AZ, CA, CO. ID, KS, MT, NB, NV, NM, ND, OK, OR, SD, TX, UT, WA and WY, Due: October 15, 2001, Contact: Charles L. Brown (301) 734-8247. This document is available on the Internet at: http://www.aphis.usda.gov/ppd/es/ppqdocs.html.

EIS No. 010327, Draft EIS, FHW, NB, Antelope Valley Study Improvements in three major issues: Stormwater Management, Transportation, Community Revitalization, City of Lincoln, University of Nebraska-Lincoln, and the Lower Platter South Natural Resources District, Major Investment Study, Lancaster County, NE, Due: October 15, 2001, Contact: Edward Kosola (402) 437-5973.

EIS No. 010328, Final EIS, TVA, TN, Addition of Electric Generation Baseload Capacity, Proposes to Construct a Natural Gas Fired Combined Cycle Power Plant, Franklin County, TN, Due: October 01, 2001, Contact: Bruce Yeager (865) 632-8051.

EIS No. 010329, Final EIS, AFS, ID, Middle Fork Weiser River Watershed Project, Implementation of Vegetation Restoration, Landscape Fire Pattern and Watershed Restoration Objectives, Payette National Forest, Council Ranger District, Adams County, ID, Due: October 01, 2001, Contact: Faye Krueger (208) 253-0100.

This document is available on the Internet at: www.fs.fed.us/r4/payette/main.html

Dated: August 28, 2001.
B. Katherine Biggs,
Associate Director, NEPA Compliance Division, Office of Federal Activities.

[FR Doc. 01-22063 Filed 8-30-01; 8:45 am]

BILLING CODE 6560-50-P